DEPARTMENT OF AGRICULTURE

Council for Native American Farming and Ranching

AGENCY: Office of Tribal Relations, USDA.

ACTION: Notice of public meeting.

SUMMARY: This notice announces a forthcoming meeting of The Council for Native American Farming and Ranching (CNAFR) a public advisory committee of the Office of Tribal Relations (OTR). Notice of the meetings are provided in accordance with section 10(a)(2) of the Federal Advisory Committee Act, as amended, (5 U.S.C. Appendix 2). This will be the inaugural meeting of the CNAFR and will consist of, but not limited to, election of officers, acceptance of committee by-laws, and overview of USDA farm programs. This meeting will be open to the public.

DATES: The meeting will be held on August 14, 2012 and August 15, 2012 from 8 a.m. to 5 p.m. The meetings are open to the public on both days. Note that a period for public comment will be held on August 15, from 10 a.m. to 12 p.m.

ADDRESSES: The meeting will be held at the Smithsonian's National Museum of the American Indian, 4th St and Independence Ave. SW., Washington, DC 20024. The meeting will be held in the Patrons Lounge.

Written Comments: Written comments may be submitted to: Joanna Mounce Stancil, Designated Federal Officer, Director, Office of Tribal Relations (OTR), 1400 Independence Ave. SW., Whitten Bldg., 500-A, Washington, DC 20250; by Fax: (202) 720-1058; or by email: John.Lowery@osec.usda.gov. All written comments must be received by July 31, 2012.

FOR FURTHER INFORMATION CONTACT: Questions should be directed to John Lowery, Management Analyst, OTR, 1400 Independence Ave. SW., Whitten Bldg., 500A, Washington, DC 20250; by Fax: (202) 720-1058 or email: John.Lowery@osec.usda.gov.

SUPPLEMENTARY INFORMATION: In accordance with the provisions of the Federal Advisory Committee Act (FACA) as amended (5 U.S.C. App. 2), USDA established an advisory Council for Native American farmers and ranchers. The Council is a discretionary advisory committee established under the authority of the Secretary of Agriculture, in furtherance of the settlement agreement in Keepseagle v. Vilsack that was granted final approval by the District Court for the District of Columbia on April 28, 2011.

The Council will operate under the provisions of the FACA and report to the Secretary of Agriculture. The purpose of the Council is (1) to advise the Secretary of Agriculture on issues related to the participation of Native American farmers and ranchers in USDA farm loan programs; (2) to transmit recommendations concerning any changes to FSA regulations or internal guidance or other measures that would eliminate barriers to program participation for Native American farmers and ranchers; (3) to examine methods of maximizing the number of new farming and ranching opportunities created through the farm loan program through enhanced extension and financial literacy services; (4) to examine methods of encouraging intergovernmental cooperation to mitigate the effects of land tenure and probate issues on the delivery of USDA farm loan programs; (5) to evaluate other methods of creating new farming or ranching opportunities for Native American producers; and (6) to address other related issues as deemed appropriate.

The Secretary of Agriculture selected a diverse group of members representing a broad spectrum of persons interested in providing solutions to the challenges of the aforementioned purposes. Equal opportunity practices were considered in all appointments to the Committee in accordance with USDA policies. The Secretary selected the members in May 2012. Interested persons may present views, orally or in writing, on issues relating to agenda topics before the council.

Written submissions may be submitted to the contact person on or before August 5, 2012. Oral presentations from the public will be scheduled between approximately 10:00 a.m. to 12:00 p.m. on August 15, 2012. Those individuals interested in making formal oral presentations should notify the contact person and submit a brief statement of the general nature of the issue they wish to present and the names and addresses of proposed participants. Each person giving public comment will have three (3) minutes. The contact person will notify interested persons regarding their request to speak by August 5, 2012. The deadline to submit comments is July 31, 2012.

OTR will also make all agenda topics available to the public via the OTR Web site: http://www.usda.gov/wps/portal/usda/usdahome?navid=OTR no later than 10 business days before the meeting and at the meeting. In addition, the minutes from the meeting will be posted on the OTR Web site. OTR welcomes the attendance of the public at the CNAFR meetings and will make every effort to accommodate persons with physical disabilities or special needs. If you require special accommodations due to a disability, please contact John Lowery, at least 10 business days in advance of the meeting.

Dated: July 19, 2012.
Joanna Mounce Stancil,
Director Office of Tribal Relations.

[FR Doc. 2012-18088 Filed 7-24-12; 8:45 am]

BILLING CODE 3410-05-P